DEPARTMENT OF HEALTH AND HUMAN SERVICES

Centers for Disease Control and Prevention

[Docket No. CDC-2012-0013]

Notice of Availability of the Final Environmental Impact Statement

AGENCY: Centers for Disease Control and Prevention, HHS.

ACTION: Notice of Availability and Request for Comment.

SUMMARY: The Centers for Disease Control and Prevention (CDC), within the Department of Health and Human Services (HHS), announces the availability of the Final Environmental Impact Statement (FEIS) for the Roybal Campus 2025 Master Plan. The FEIS analyzes the potential impacts associated with the implementation of the 2015-2025 Master Plan (Master Plan) for HHS/CDC's Edward R. Roybal Campus (Roybal Campus) located at 1600 Clifton Road NE., in Atlanta, Georgia. This announcement follows the requirements of the National Environmental Policy Act of 1969 (NEPA) as implemented by the Council on Environmental Quality (CEQ) Regulations (40 CFR Part 1500-1508); and, the Department of Health and Human Services (HHS) General Administration Manual Part 30 Environmental Procedures, dated February 25, 2000.

DATES: The FEIS will be available for public review and comment through Monday, October 6, 2014 which coincides with the publication of the NOA by the EPA in the Federal Register. Following the 30 day comment period, HHS/CDC will issue a Record of Decision which identifies the Selected Alternative and provides rationale for the decision. Written comments must be received on or before Monday, October 6, 2014.

ADDRESSES: The FEIS is available on the Federal eRulemaking Portal: http://www.regulations.gov, identified by Docket No. CDC-012-0013. Hard copies of the FEIS are also available for review at locations listed in the Availability of the FEIS under SUPPLEMENTARY INFORMATION.

You may submit written comments identified by Docket No. CDC-2012-0013, by the following methods:

• Federal eRulemaking Portal: http://www.regulations.gov. Follow the instructions for submitting comments.

• Mail: George F. Chandler, Senior Advisor, Centers for Disease Control and Prevention, 1600 Clifton Road NE., Mailstop A-22, Atlanta, Georgia 30333.

Instructions: All submissions received must include the agency name and Docket Number. All relevant comments received will be posted without change to http://www.regulations.gov, including any personal information provided. For access to the docket, to read background documents or previous comments received, go to http://www.regulations.gov.

Final comments on the FEIS must be postmarked by Monday, October 6, 2014.

FOR FURTHER INFORMATION CONTACT: George F. Chandler, Senior Advisor, Centers for Disease Control and Prevention, 1600 Clifton Road NE., Mailstop A-22, Atlanta, Georgia 30333. Telephone: (404)639-5153.

SUPPLEMENTARY INFORMATION: HHS/CDC has prepared a new long-range Master Plan to guide the future physical development of the Roybal Campus for the planning horizon of 2015 to 2025. The previous 2000-2009 Master Plan has been implemented, and as a result, a new plan is needed in order to ensure that the campus can support HHS/CDC's mission and program requirements through 2025. Mission change and growth resulting from emerging or reemerging infectious diseases, changes in technology and potential Program staff growth over time are expected to drive increases in laboratory and non-laboratory staff and demand for specialized space. The Master Plan provides an update of baseline existing conditions and examines the potential growth in agency mission, laboratory and laboratory support space, office space and personnel occupying the Roybal Campus, and identifies a preferred alternative for future development.

The FEIS analyzes the effects of the Proposed Action and the No Action Alternative. The Proposed Action Alternative consists of HHS/CDC's implementation of the Master Plan preferred alternative. Improvements proposed under the Master Plan preferred alternative include new laboratory construction, existing building renovation, parking expansion, and infrastructure upgrades. Under the Master Plan preferred alternative, a new laboratory building of approximately 350,000 to 450,000 gross square feet would be constructed on an existing surface parking lot located in the eastern portion of the Roybal Campus. A new approximately 1,600 space parking deck would be constructed in the southeastern portion of the campus. Construction of the new parking deck, along with the new laboratory and supporting infrastructure would eliminate an existing surface parking and result in a net increase of approximately 1,200 parking spaces at the Roybal Campus. The construction of the new parking deck would increase the existing campus parking cap from 3,300 to approximately 4,500 spaces. The employee population at the Roybal Campus is estimated to increase by approximately 1,485 new occupants under the Master Plan preferred alternative by 2025.

The No Action Alternative represents continued operation of the existing facilities at the Roybal Campus without any new construction or any major building additions over the ten-year planning period from 2015 to 2025. However, the employee population at the Roybal Campus is projected to increase by approximately 865 new occupants under the No Action Alternative due to potential background growth of existing Campus programs.

The DEIS for the Roybal Campus 2025 Master Plan was issued for public review in January of 2014. The DEIS was filed with the EPA the week of January 13, 2014 through January 17, 2014 and a Notice of Availability (NOA) for the DEIS was published in the Federal Register on January 24, 2014 by the EPA. The public review period for the DEIS extended to April 10, 2014. During the public comment period, a public meeting was held on March 20, 2014. HHS/CDC received 24 sets of comments addressing the DEIS, with a total of 111 individual comments. HHS/CDC reviewed and considered all comments that were received during the public review period. All comments and HHS/CDC's response to comments are contained in the FEIS. Portions of the FEIS were revised in response to comments which called for clarifications or factual changes. Additional mitigation related to potential visual impacts were incorporated in response to public comments.

Availability of the FEIS: Copies of the FEIS were distributed to Federal, State, and local government agencies with jurisdiction by law or expertise, elected officials and all agencies, persons and organizations that submitted comments on the DEIS.

The FEIS is also available online on the Federal eRulemaking Portal: http://www.regulations.gov, identified by Docket No. CDC-2012-0013. Copies of the FEIS are available at the following locations: Decatur Library, 215 Sycamore Street, Decatur, GA 30030; Toco Hill-Avis G. Williams Library, 1282 McConnell Drive, Decatur, GA 30030; Atlanta-Public Library Ponce de Leon Branch, 980 Ponce de Leon Ave. NE., Atlanta, GA 30306; Atlanta-Public Library—Central Library, One Margaret Mitchell Square, Atlanta, GA 30303; Atlanta-Public Library—Kirkwood Branch, 11 Kirkwood Rd. NE., Atlanta, GA 30317; and, Emory University- Robert W. Woodruff Library, 540 Asbury Cir., Atlanta, GA 30322.

Dated: September 2, 2014.
Ron A. Otten,
Acting Deputy Associate Director for Science, Centers for Disease Control and Prevention.

[FR Doc. 2014-21147 Filed 9-4-14; 8:45 am]

BILLING CODE 4163-18-P